DEPARTMENT OF EDUCATION

National Institute on Disability and Rehabilitation Research (NIDRR)—Disability and Rehabilitation Research Projects and Centers Program—Disability Rehabilitation Research Project (DRRP)—Reducing Obesity and Obesity-Related Secondary Health Conditions Among Adolescents and Young Adults With Disabilities From Diverse Race and Ethnic Backgrounds

Catalog of Federal Domestic Assistance (CFDA) Number: 84.133A-7.

AGENCY: Office of Special Education and Rehabilitative Services, Department of Education.

ACTION: Notice of final priority for a DRRP.

SUMMARY: The Assistant Secretary for Special Education and Rehabilitative Services announces a priority for the Disability and Rehabilitation Research Projects and Centers Program administered by NIDRR. Specifically, this notice announces a priority for a DRRP on Reducing Obesity and Obesity-Related Secondary Health Conditions Among Adolescents and Young Adults With Disabilities From Diverse Race and Ethnic Backgrounds. The Assistant Secretary may use this priority for a competition in fiscal year (FY) 2010 and later years. We take this action to focus research attention on areas of national need. We intend this priority to improve rehabilitation services and outcomes for individuals with disabilities.

DATES: Effective Date: This priority is effective July 12, 2010.

FOR FURTHER INFORMATION CONTACT: Lynn Medley, U.S. Department of Education, 400 Maryland Avenue, SW., room 5140, Potomac Center Plaza, Washington, DC 20202-2700. Telephone: (202) 245-7338 or by e-mail: lynn.medley@ed.gov.

If you use a telecommunications device for the deaf (TDD), call the Federal Relay Service (FRS), toll free, at 1-800-877-8339.

SUPPLEMENTARY INFORMATION: This notice of final priority (NFP) is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended.

DRRP Program

The purpose of the DRRP program is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: research, training, demonstration, development, dissemination, utilization, and technical assistance. An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Project (DRRP) Requirements priority that it published in a notice of final priorities in the Federal Register on April 28, 2006 (71 FR 25472).

Additional information on the DRRP program can be found at: http://www.ed.gov/rschstat/research/pubs/res-program.html#DRRP.

Program Authority: 29 U.S.C. 762(g) and 764(a).

Applicable Program Regulations: 34 CFR part 350.

We published a notice of proposed priority (NPP) for NIDRR's Disability and Rehabilitation Research Projects and Centers Program in the Federal Register on December 15, 2009 (74 FR 66307). The NPP included a background statement that described our rationale for the priority proposed in that notice.

There is one significant difference between the NPP and this NFP as discussed in the following section.

Public Comment

In response to our invitation in the NPP, five parties submitted comments on the proposed priority for the DRRP.

Generally, we do not address technical and other minor changes or suggested changes the law does not authorize us to make under the applicable statutory authority. In addition, we do not address general comments that raised concerns not directly related to the proposed priority.

Analysis of Comments and Changes: An analysis of the comments and of any changes in the priority since publication of the NPP follows.

Comment: One commenter requested that this priority address the need for youth to learn skills to maintain a healthy lifestyle. The commenter noted that these skills can be taken into adulthood, and include proper nutrition, daily exercise, and group activities.

Discussion: The priority does not preclude applicants from focusing on promising community-based and culturally competent practices for teaching youth about proper nutrition, daily exercise, or other behavioral and lifestyle changes to reduce obesity and obesity-related conditions.

Changes: None.

Comment: One commenter asked the Department to clarify whether the term “disability” includes children with mental and emotional illness, particularly children who develop obesity as a result of the effects of prescription drugs taken to treat depression and other symptoms of mental or emotional illness.

Discussion: Individuals with mental and emotional disabilities are included in the definition of individual with a disability that applies to this program (see section 7(20)(b) of the Rehabilitation Act of 1973, as amended (29 U.S.C. 705(20)(B)). However, applicants are not required to include individuals with all types of disabilities as part of their proposal. Rather, the priority requires applicants to identify the specific sub-populations of adolescents and young adults they propose to study by type of disability. Therefore, under this priority, an applicant could focus its project on adolescents and young adults with mental or emotional disabilities.

Changes: None.

Comment: One commenter recommended that the requirements related to the translation of research findings into practice or policy (paragraph (c) of the priority) include a requirement that materials be disseminated in alternate formats.

Discussion: NIDRR agrees with the commenter that project materials must be produced in alternate formats to help ensure accessibility for individuals with disabilities.

Changes: NIDRR has amended the language in paragraph (c)(3) of the priority to provide that the DRRP must conduct dissemination activities, including the distribution of materials in alternate formats, to increase the utilization and accessibility of the DRRP's research findings by individuals with disabilities.

Comment: One commenter requested that the Department articulate the specific kinds of community-based obesity reduction strategies and programs that will be considered under paragraph (b) of the priority.

Discussion: NIDRR believes it would be too restrictive to limit the kinds of strategies and programs that will be considered under this priority and that doing so could result in the potential exclusion of innovative projects. As such, NIDRR did not specify the kinds of community-based strategies and programs that are to be considered under paragraph (b) of the priority. Applicants must specify the criteria and methods they will use to identify such strategies and programs.

Changes: None.

Comment: One commenter asked NIDRR to specify potential sources of health data for use under this priority.

Discussion: There are a wide variety of data sources that the DRRP could use to meet the requirements under paragraph (a) of the priority. NIDRR believes, however, that identifying specific data sources in the priority would be unnecessarily restrictive. As such, NIDRR did not specify the sources of health data that are to be considered under paragraph (a). Rather, applicants must specify the data sources that they propose to use under paragraph (a).

Changes: None.

Comment: One commenter stated that risk factors for obesity are best addressed in the pre-adolescent years before unhealthy habits become established. The commenter recommended that the priority focus on children younger than age 15.

Discussion: NIDRR acknowledges the current obesity epidemic among young children and the importance of addressing obesity in the pre-adolescent years. However, with this priority, NIDRR focuses on obesity for individuals between the ages of 15 and 25. This focus helps address the paucity of research regarding this population and is consistent with the Department's focus on improving outcomes for transition-age youth with disabilities.

Changes: None.

Comment: One commenter asked which operational definitions of “disability” applicants should use to address this priority.

Discussion: Section 7(20)(b) of the Rehabilitation Act of 1973, as amended (29 U.S.C. 705(20)(B)) defines “individual with a disability,” for purposes of title II of the Rehabilitation Act, as any person who “(i) has a physical or mental impairment that substantially limits one or more of such person's major life activities, (ii) has a record of such an impairment, or (iii) is regarded as having such an impairment.” Within this definition and the requirements of the priority, applicants have the flexibility to specify their target population for the purposes of their proposed projects.

Changes: None.

Comment: One commenter stated that risk factors may be categorized from an ecological perspective, including a focus on the individual, the environment, and society.

Discussion: NIDRR does not specify a particular perspective or conceptual approach that applicants must use in addressing the priority. Nothing in the priority precludes an applicant from characterizing risk factors from an ecological perspective.

Changes: None.

Comment: One commenter stated that resources should be targeted to children diagnosed with developmental disabilities at birth.

Discussion: NIDRR acknowledges the current obesity epidemic among young children and the importance of addressing obesity in the pre-adolescent years. However, with this priority NIDRR focuses on obesity for individuals between the ages of 15 and 25. This focus helps address the paucity of research regarding this population and is consistent with the Department's focus on improving outcomes for transition-age youth with disabilities. Regarding the commenter's request that resources be targeted to children diagnosed with developmental disabilities, nothing in the priority precludes an applicant from focusing on this population. However, NIDRR has no basis for requiring all applicants to do so.

Changes: None.

Comment: One commenter recommended that research funded under this priority adapt and prospectively track or evaluate high quality obesity treatment programs for children with developmental disabilities.

Discussion: Paragraph (b) of the priority requires applicants to identify promising obesity-reduction strategies and programs and to specify criteria and methods for doing so. The DRRP's work is intended to identify potential interventions that can be tested and implemented in the future in community-based settings. This systematic identification of promising practices must occur before the intensive evaluation activities suggested by the commenter. Adaptation and prospective tracking or evaluation of programs are beyond the scope of this priority.

Changes: None.

Comment: One commenter asked how community-based and culturally competent practices to reduce obesity and secondary conditions will include consideration of a medical home.

Discussion: The priority neither requires nor precludes a focus on medical homes. Applicants are required to specify the criteria and methods they will use to identify obesity-reduction strategies and programs.

Changes: None.

Comment: One commenter asked whether NIDRR will support studies of how primary and secondary disabilities vary by factors such as race/ethnicity, geography, family income, and access to health insurance.

Discussion: Paragraph (a) of the priority requires applicants to identify variations in rates of obesity and overweight status by race/ethnicity and other obesity risk factors among adolescents and young adults with disabilities. Nothing in the priority precludes applicants from examining geography, family income, and access to health insurance as additional potential obesity risk factors.

Changes: None.

Comment: One commenter stated that it is important to study potential impacts of obesity and related secondary conditions on job placement and retention.

Discussion: The priority requires the applicant to address risk factors for and health consequences of obesity for adolescents and young adults with disabilities and to identify promising community-based and culturally competent practices to reduce obesity among this population. While NIDRR acknowledges the potential importance of the impact of obesity and related secondary conditions on job placement and retention, such a focus is beyond the scope of this priority.

Changes: None.

Comment: One commenter asked if there is evidence to support the effective transfer of obesity management programs developed for individuals without disabilities to individuals with disabilities.

Discussion: The priority requires grantees to examine existing community-based obesity prevention programs such as the programs being implemented by the Centers for Disease Control and Prevention (CDC). Grantees must determine whether the practices of community-based obesity prevention programs serving the wider community hold promise for individuals with disabilities, might need modification for use by individuals with disabilities, or might incorporate individuals with disabilities. Accordingly, the grantee will examine whether there is sufficient evidence to support such a transfer.

Changes: None.

Comment: One commenter asked NIDRR to identify the best methods for communicating scientific findings to multiple stakeholder groups.

Discussion: There is a wide variety of methods that the DRRP could use to meet the requirements under paragraph (c) of the priority. NIDRR believes that specifying these methods in the priority would be unnecessarily restrictive and could result in the exclusion of projects using dissemination and knowledge translation methods that are not specified in the priority. As such, NIDRR does not identify methods for communicating scientific findings to multiple stakeholder groups. Rather, applicants must specify the methods that they will use to fulfill the requirements of paragraph (c) of the priority.

Changes: None.

Comment: One commenter recommended the identification or adaptation of behavioral and exercise programs for children with disabilities.

Discussion: The priority requires a focus on individuals between the ages of 15 and 25. Applicants may propose criteria and methods that would allow behavioral and exercise programs to be identified as promising under paragraph (b) of the priority. The peer review process will determine the merits of each proposal.

Changes: None.

Final Priority

The Assistant Secretary for Special Education and Rehabilitative Services announces a priority for a Disability Rehabilitation Research Project (DRRP) on Reducing Obesity and Obesity-Related Secondary Conditions among Adolescents and Young Adults With Disabilities From Diverse Race and Ethnic Backgrounds. The DRRP must build upon the current research literature on obesity and secondary conditions and examine existing community-based obesity prevention programs such as the programs being implemented by the Centers for Disease Control and Prevention (CDC) in order to determine whether practices they are implementing hold promise for individuals with disabilities, what modifications to these practices may be necessary, and how individuals with disabilities might be incorporated into community-based programs serving the wider community. Applicants must identify the specific sub-populations of adolescents and young adults they propose to study by type of disability (e.g., physical, sensory, mental) and by race/ethnic background. Under this priority, NIDRR is interested in obesity as a condition that is experienced concomitantly with other disabling conditions, but not as a primary disabling condition. When identifying the specific sub-populations by race/ethnic background, the DRRP must select from three or more of the following categories: Non-Hispanic Whites, non-Hispanic Blacks, American Indians or Alaskan Natives, Asians or Pacific Islanders, and individuals of Hispanic origin.

Under this priority, the DRRP must be designed to contribute to the following outcomes:

(a) Enhanced understanding of the risk factors and health consequences of obesity and overweight status for adolescents and young adults with pre-existing disabilities from diverse race/ethnic backgrounds. The DRRP must contribute to this outcome by conducting analyses of extant data sources to identify variations in rates of obesity and overweight status by race/ethnicity and other risk factors among adolescents and young adults with disabilities approximately 15 to 25 years of age, as well as variations in obesity-related secondary conditions.

(b) New knowledge of promising community-based and culturally competent practices for reducing obesity and obesity-related secondary conditions among adolescents and young adults with pre-existing disabilities. The DRRP must contribute to this outcome by conducting research to identify the key elements of community-based and culturally competent strategies and programs that show promise toward reducing obesity and overweight status for the specific target populations selected. The DRRP's work in this area is intended to identify potential interventions that can be tested and implemented in the future in community-based settings. Applicants must propose, in their applications, the specific criteria and methods they will use to identify promising community-based and culturally competent strategies and programs.

(c) Increased translation of research findings into practice or policy. The DRRP must contribute to this outcome by:

(1) Collaborating with stakeholder groups (e.g., youth and young adults with disabilities, families, family surrogates, rehabilitation professionals, and public health professionals) to develop, evaluate, or implement strategies to increase utilization of the DRRP's research findings in programs targeted to youth with disabilities;

(2) Coordinating with existing programs such as those being implemented by the CDC to obtain and share information regarding the applicability of promising practices for individuals with disabilities; and

(3) Conducting dissemination activities, including the distribution of materials in alternate formats to increase the utilization and accessibility of the DRRP's research findings by individuals with disabilities.

This notice announces a priority that NIDRR intends to use for DRRP competitions in FY 2010 and possibly later years. However, nothing precludes NIDRR from publishing additional priorities, if needed. Furthermore, NIDRR is under no obligation to make an award for this priority. The decision to make an award will be based on the quality of applications received and available funding.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Note: This notice does not solicit applications. In any year in which we choose to use this priority, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priority justify the costs.

Discussion of Costs and Benefits

The benefits of the Disability and Rehabilitation Research Projects and Centers Programs have been well established over the years in that similar projects have been completed successfully. This final priority will generate new knowledge through research and development. Another benefit of this final priority is that the establishment of a new DRRP will improve the lives of individuals with disabilities. The new DRRP will generate, disseminate, and promote the use of new information that will improve the options for individuals with disabilities to perform regular activities in the community.

Accessible Format: Individuals with disabilities can obtain this document in an accessible format (e.g., braille, large print, audiotape, or computer diskette) by contacting the Grants and Contracts Services Team, U.S. Department of Education, 400 Maryland Avenue, SW., room 5075, Potomac Center Plaza, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: June 8, 2010.
Alexa Posny,
Assistant Secretary for Special Education and Rehabilitative Services.

[FR Doc. 2010-14135 Filed 6-10-10; 8:45 am]

BILLING CODE 4000-01-P